DEPARTMENT OF COMMERCE

International Trade Administration

North American Free Trade Agreement (NAFTA), Article 1904 Binational Panel Reviews: Notice of Termination of Panel Review

AGENCY: NAFTA Secretariat, United States Section, International Trade Administration, Department of Commerce.

ACTION: On August 9, 2012, a Motion to Terminate Panel Review of the final results of the U.S. Department of Commerce's 2009-2010 Antidumping Administrative Review of Light-Walled Rectangular Pipe and Tube from Mexico (Secretariat File No. USA-MEX-2012-1904-01).

SUMMARY: Pursuant to the Notice of Motion requesting termination of the panel review by a participant and consented to by all the participants, the panel review is terminated as of August 9, 2012. A panel has not been appointed to this panel review. Pursuant to Rule 71(2) of the Rules of Procedure for Article 1904 Binational Panel Review, this panel review is terminated.

FOR FURTHER INFORMATION CONTACT: Ellen Bohon, United States Secretary, NAFTA Secretariat, Suite 2061, 14th and Constitution Avenue, Washington, DC 20230, (202) 482-5438.

SUPPLEMENTARY INFORMATION: Chapter 19 of the North American Free Trade Agreement (“Agreement”) established a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada, and the Government of Mexico established Rules of Procedure for Article 1904 Binational Panel Reviews (“Rules”). These Rules were published in the Federal Register on February 23, 1994 (59 FR 8686). The panel review in this matter was requested and terminated pursuant to these Rules.

Dated: August 13, 2012.
Ellen Bohon,
United States Secretary, NAFTA Secretariat.

[FR Doc. 2012-20225 Filed 8-16-12; 8:45 am]

BILLING CODE 3510-GT-P